ENVIRONMENTAL PROTECTION AGENCY

[FRL-9997-51-OMS]

Privacy Act of 1974; System of Records

AGENCY: Office of Mission Support, Environmental Protection Agency (EPA).

ACTION: Notice of a modified system of records.

SUMMARY: The Federal Docket Management System (FDMS), is a regulatory, multi-agency use system that contains Federal Register notices, materials supporting regulatory actions such as scientific and economic analyses, and public comments.

The system of records is being amended to remove all information and data elements related to the Environmental Protection Agency's (EPA) Freedom of Information Act (FOIA) tracking system, FOIAonline, and to change the number assigned to the FDMS system of records. The status and storage of FOIAonline records should henceforth be detailed in a separate SORN for that system. The number previously assigned to FDMS identified the system as a government wide system of records. FDMS is a multi-agency use system and should be identified as such. The original system of records notice for FDMS was published in the Federal Register on March 24, 2005, was amended on October 2, 2013 and February 18, 2014, to add records collected and categories of records in a Freedom of Information Act (FOIA) system.

DATES: Persons wishing to comment on this system of records notice must do so by September 13, 2019. New or Modified routine uses for this modified system of records will be effective September 13, 2019.

ADDRESSES: Submit your comments, identified by Docket ID No. EPA-HQ-OEI-2015-0757, by one of the following methods:

Regulations.gov: www.regulations.gov Follow the online instructions for submitting comments.

Email: oei.docket@epa.gov.

Fax: 202-566-1752.

Mail: OMS Docket, Environmental Protection Agency, Mail code: 2822T, 1200 Pennsylvania Ave. NW, Washington, DC 20460.

Hand Delivery: OMS Docket, EPA/DC, WJC West Building, Room 3334, 1301 Constitution Ave. NW, Washington, DC. Such deliveries are only accepted during the Docket's normal hours of operation, and special arrangements should be made for deliveries of boxed information.

Instructions: Direct your comments to Docket ID No. EPA-HQ-OEI-2015-0757. The EPA's policy is that all comments received will be included in the public docket without change and may be made available online at www.regulations.gov, including any personal information provided, unless the comment includes information claimed to be Controlled Unclassified Information (CUI) or other information for which disclosure is restricted by statute. Do not submit information that you consider to be CUI or otherwise protected through www.regulations.gov. The www.regulations.gov website is an “anonymous access” system for EPA, which means the EPA will not know your identity or contact information unless you provide it in the body of your comment. However, over 180 federal partner and participating agencies use www.regulations.gov and some may require Personally Identifiable Information (PII) and some may not. Each agency determines submission requirements within their own internal processes and standards. EPA has no requirement of personal information. If you send an email comment directly to the EPA without going through www.regulations.gov your email address will be automatically captured and included as part of the comment that is placed in the public docket and made available on the internet. If you submit an electronic comment, the EPA recommends that you include your name and other contact information in the body of your comment. If the EPA cannot read your comment due to technical difficulties and cannot contact you for clarification, the EPA may not be able to consider your comment. Electronic files should avoid the use of special characters, any form of encryption, and be free of any defects or viruses. For additional information about the EPA's public docket visit the EPA Docket Center homepage at http://www.epa.gov/epahome/dockets.htm.

Docket: All documents in the docket are listed in the www.regulations.gov index. Although listed in the index, some information is not publicly available, e.g., CUI or other information for which disclosure is restricted by statute. Certain other material, such as copyrighted material, will be publicly available only in hard copy. Publicly available docket materials are available either electronically in www.regulations.gov or in hard copy at the OMS Docket, EPA/DC, WJC West Building, Room 3334, 1301 Constitution Ave. NW, Washington. DC. The Public Reading Room is open from 8:30 a.m. to 4:30 p.m., Monday through Friday excluding legal holidays. The telephone number for the Public Reading Room is (202) 566-1744, and the telephone number for the OMS Docket is (202) 566-1752.

FOR FURTHER INFORMATION CONTACT: Tobias Schroeder, (202) 250-8603, or Schroeder.tobias@epa.gov, eRulemaking Program Management Office, U.S. EPA, Office of Mission Support, 1200 Pennsylvania Ave. NW, Washington, DC 20460.

SUPPLEMENTARY INFORMATION: The Federal Docket Management System (FDMS), is a regulatory, multi-agency use system that contains Federal Register notices, materials supporting regulatory actions such as scientific and economic analyses, and public comments. The repository also contains dockets that are non-rulemaking. The system is used by over 180 federal partner and participating agencies that conduct rulemaking activities. Each agency is responsible for managing its own docket and rulemaking documents. An agency may share documents with other agencies or persons in addition to making them available to the public on the regulations.gov website. Each agency has sole responsibility for documents submitted in support of its rulemakings. These documents will be processed by the responsible agencies. Some agencies require individuals to provide personally identifiable information when submitting a comment (e.g., name and contact information) that the agency can use if it experiences a problem receiving the comment or requires additional information to process the comment. A comment that meets all requirements of the recipient agency will be posted at www.regulations.gov. Once the comment is posted, the public may access those regulatory records. All the contents of posted comments will be searchable. Information in FDMS is accessed via the FDMS website by FDMS agency administrators, docket managers, rule writers, agency viewers (this is a view only access) and records managers. Each agency manages, accesses, and controls the information in the regulatory system that is submitted to it and maintains the sole ability to disclose the information it receives. Records in FDMS are maintained in a secure, password protected electronic system that utilizes security hardware and software to include multiple firewalls, active intrusion detection, and role-based access controls. Additional safeguards will vary by agency. FDMS is located at the U.S. EPA, Research Triangle Park, N.C. The system is maintained by the Office of Mission Support, eRulemaking Program Management Office.

SYSTEM NAME AND NUMBER

Federal Docket Management System (FDMS), EPA-71.

SECURITY CLASSIFICATION:

Unclassified.

SYSTEM LOCATION:

U.S. EPA, 109 T.W. Alexander Drive, Durham, NC 27709.

SYSTEM MANAGER(S):

Tobias Schroeder, (202) 250-8603, or Schroeder.tobias@epa.gov, eRulemaking Program Management Office, U.S. EPA, Office of Mission Support, MC 2282T, 1200 Pennsylvania Ave. NW, Washington, DC 20460.

AUTHORITY FOR MAINTENANCE OF THE SYSTEM:

Section 206(d) of the E-Government Act of 2002 (Public Law 107-347, 44 U.S.C. Ch 36); Clinger-Cohen Act of 1986, 40 U.S.C. 11318; and 5 U.S.C. 301.

PURPOSE(S) OF THE SYSTEM:

To provide the public a central online location to search, view, download and comment on Federal rulemaking documents.

CATEGORIES OF INDIVIDUALS COVERED BY THE SYSTEM

Any individual commenting on a Federal agency's rulemaking activities or submitting supporting materials.

CATEGORIES OF RECORDS IN THE SYSTEM:

Agency rulemaking materials including Federal Register publications, supporting rulemaking documentation, scientific and financial studies and public comments.

RECORD SOURCE CATEGORIES:

Agencies and other individuals who create records derived from individuals commenting on Federal rulemaking activities.

ROUTINE USES OF RECORDS MAINTAINED IN THE SYSTEM, INCLUDING CATEGORIES OF USERS AND PURPOSES OF SUCH USES:

The following new routine uses apply to this system because the use of the record is necessary for the efficient conduct of government operations. The routine uses are related to and compatible with the original purpose for which the information was collected. EPA general routine uses A (Disclosure for Law Enforcement Purposes), B (Disclosure Incident to Requesting Information), C (Disclosure to Requesting Agency), D (Disclosure to Office of Management and Budget), E (Disclosure to Congressional Offices), F (Disclosure to Department of Justice), G (Disclosure to National Archives), H (Disclosure to Contractors, Grantees and Others), K (Disclosure in Connection with Litigation), apply to this system (73 FR 2245). (https://www.federalregister.gov/documents/2008/01/14/E8-445.pdf) The following new routine uses are in accordance with M-17-12.

To appropriate agencies, entities, and persons when (1) the Agency suspects or has confirmed that there has been a breach of the system of records, (2) the Agency has determined that as a result of the suspected or confirmed breach there is a risk of harm to individuals, the Agency (including its information systems, programs, and operations), the Federal Government, or national security; and (3) the disclosure made to such agencies, entities, and persons is reasonably necessary to assist in connection with the Agency's efforts to respond to the suspected or confirmed breach or to prevent, minimize, or remedy such harm.

To another Federal agency or Federal entity, when the Agency determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

POLICIES AND PRACTICES FOR STORAGE OF RECORDS:

Records are stored in file folders in lockable file cabinets as maintained by the agency from where the record was initiated. Records are also stored in a secure, password protected electronic system that utilizes security hardware and software to include firewalls, encryption, active intrusion detection and role-based access controls. Additional safeguards vary by participating agencies.

POLICIES AND PRACTICES FOR RETRIEVAL OF RECORDS:

The system retrieves records by numerous data elements and key word searches, including agency, dates, subject, docket type, docket sub-type, agency docket ID, docket title, docket category, document type, CFR Part, date received and Federal Register publication date, and name of the commenter, document, and docket.

The unique identifiers within the system are the docket ID, comment tracking number, and document ID.

POLICIES AND PRACTICES FOR RETENTION AND DISPOSAL OF RECORDS:

Each Federal agency handles its records in accordance with its records schedule as approved by the National Archives and Records Administration (NARA).

ADMINISTRATIVE, TECHNICAL, AND PHYSICAL SAFEGUARDS:

FDMS security protocols meet multiple security standards from authentication to certification and accreditation, as identified by the National Institute of Standards and Technology (NIST). Records in the system are maintained in a secure, password protected electronic system that utilizes security hardware and software to include multiple firewalls, active intrusion detection, and role-based access controls. Additional safeguards vary by agency for the regulatory records. Security controls are commensurate with those required for an information system rated moderate for confidentiality, integrity and availability as prescribed by NIST.

RECORD ACCESS PROCEDURES:

Uncontrolled access to information is restricted to publically available information. Partner agencies determine the specific unrestricted information that may be accessed by the public. That information is posted on an open publically accessible website, Regulations.gov. Information maintained on FDMS is only available to the particular partner agency that posts the particular information. User access is controlled by password access. Passwords are maintained in accordance with the government security guidelines. Individuals seeking access to their own personal information in this system of records are required to provide adequate identification (e.g., driver's license, military identification card, employee badge or identification card). Additional identity verification procedures may be required as warranted. Requests must meet the requirements of EPA regulations at 40 CFR part 16.

CONTESTING RECORD PROCEDURES:

Record content is controlled by individual partner agencies. The system collects public comment. All comments are assigned a tracking number. Comments are publically viewable. The system does not accept requests for correction or amendment only initial input. Requests for correction or amendment must identify the record to be changed and the corrective action sought. Requests must be submitted to the agency contact indicated on the initial document for which the related contested record was submitted. Complete EPA Privacy Act procedures are described in EPA's Privacy Act regulations at 40 CFR part 16.

NOTIFICATION PROCEDURE:

Any individual who wants to know whether this system of records contains a record about him or her should contact the agency responsible for the rulemaking activity that the individual believes may contain this information. Agency contact information is provided in the corresponding Federal Register notice. If an individual wants to contact EPA regarding an EPA rulemaking activity, they should send a written request to OMS Docket, Environmental Protection Agency, Mail code: 2822T, 1200 Pennsylvania Ave. NW, Washington, DC 20460.

EXEMPTIONS PROMULGATED FOR THE SYSTEM:

None.

HISTORY:

81 FR 81096—Posted on December 27, 2016—The Environmental Protection Agency (EPA) provided notice that it was amending the FOIA Request and Appeal File system of records. All information and data elements collected by the Environmental Protection Agency (EPA) and participating agencies as it relates to FOIA requests, appeals and responses was removed from the Federal Docket Management System (FDMS) system of records and being added to the FOIA Request and Appeal File (EPA-9) system of records.

79 FR 9201—Posted on February 18, 2014—The Environmental Protection Agency (EPA) provided notice that it had amended the Federal Docket Management System (FDMS) system of records to include additional categories of records. The amendment was required to address additional categories of information collected from Freedom of Information Act (FOIA) requesters by some participating agencies and information voluntarily provided, even when not required.

78 FR 60868—Posted on October 2, 2013—The Environmental Protection Agency (EPA) provided notice that it had amended the Federal Docket Management System (FDMS) system of records to add information collected in a Freedom of Information Act (FOIA) system.

73 FR 2245—Posted on January 14, 2008—The Environmental Protection Agency provided notice that it proposed to amend its current list of General Routine Uses to add a new routine use. The new general routine use will allow the Agency to disclose information in its systems covered under the Privacy Act to persons and entities that may be needed by the Agency to respond, prevent, minimize or remedy harm resulting from an actual or suspected breach or compromise of personally identifiable information.

70 FR 15086—Posted on March 24, 2005—The EPA, as managing partner of the Federal-wide eRulemaking, eGovernment Initiative, provided notice that it proposed to establish a government-wide system of records, the Federal Docket Management System (FDMS).

Dated: August 1, 2019.
Vaughn Noga,
Senior Agency Official for Privacy.

[FR Doc. 2019-17459 Filed 8-13-19; 8:45 am]

BILLING CODE 6560-50-P